DEPARTMENT OF THE INTERIOR

National Park Service

Notice of Realty Action for Proposed Land Exchange

SUMMARY: A land exchange is proposed of a federally owned conservation easement on privately owned lands for a similar conservation easement on adjacent privately owned lands, located in Lake Clark National Preserve, and the Lake and Peninsula Borough, Alaska.

I. The following described federally owned conservation easement, which was acquired by the National Park Service in 1992, has been determined to be suitable for disposal by exchange. The authority for this exchange is section 1302 (h), Public Law 96-487, Alaska National Interest Lands Conservation Act, December 2, 1980. The current federally owned conservation easement is within the boundary of Lake Clark National Preserve. It is not required for retention, in that park unit. This federal conservation easement, which is proposed for disposal, is a 40-acre portion of a 66-acre conservation easement (Tract No. 08-107) that was acquired by the United States of America by deed recorded in Deed Book 20 on Page 528 of the Iliamna Recording District, Alaska. The land has been surveyed for cultural resources and endangered and threatened species. These reports are available upon request from the National Park Service Land Resources Program Center at the address set forth below.

Fee ownership to the federally owned property (conservation easement) is to be exchanged. Conveyance of the interest in land by the United States of America will be done by a Quitclaim Deed.

II. In exchange for the portion of the conservation easement identified in section 1 (above) the United States of America will acquire a 53-acre conservation easement on adjoining lands (Tract No. 08-106) that are currently owned by Ms. Bella Hammond, and which also lie within the boundary of Lake Clark National Preserve. The exchange will consolidate lands in protected status and lands subject to development. The value of the property interests exchanged shall be determined by current fair market value appraisals, and if they are not appropriately equal, the values shall be equalized by payment of cash as circumstances require. Detailed information concerning this exchange, including precise legal descriptions, is contained in an environmental assessment, cultural reports, and Finding of No Significant Impact, which are available at the National Park Service, Land Resources Office, 2525 Gambell Street, Anchorage, Alaska 99503-2892, or call 907-257-2590. For a period of 45 calendar days from the date of this notice, interested parties may submit comments to the above address. Adverse comments will be evaluated and this action may be modified or vacated accordingly. In the absence of any action to modify or vacate, this realty action will become the final determination of the Department of the Interior.

Dated: May 6, 2003.
Marcia Blaszen,
Acting Regional Director, Alaska.

[FR Doc. 03-14636 Filed 6-10-03; 8:45 am]

BILLING CODE 4312-64-P